DEPARTMENT OF DEFENSE

Department of the Navy

Notice of Intent To Prepare a Supplement to the Gulf of Alaska Navy Training Activities Environmental Impact Statement/Overseas Environmental Impact Statement

AGENCY: Department of the Navy, DoD.

ACTION: Notice.

SUMMARY: Pursuant to the National Environmental Policy Act (NEPA) of 1969 and regulations implemented by the Council on Environmental Quality, the Department of the Navy (DON) announces its intent to prepare a supplement to the 2011 Gulf of Alaska (GOA) Navy Training Activities Environmental Impact Statement (EIS)/Overseas Environmental Impact Statement (OEIS) and 2016 Gulf of Alaska Navy Training Activities Supplemental EIS/OEIS. New information includes a new acoustic effects model, updated marine mammal density data, and evolving and emergent best available science. Proposed activities are consistent with those analyzed in the 2016 GOA Navy Training Activities Supplemental EIS/OEIS and 2017 Record of Decision.

DATES: The public 30-day scoping period begins on February 10, 2020 and extends to March 11, 2020. Comments must be postmarked no later than March 11, 2020 for consideration in the Draft Supplemental EIS/OEIS.

ADDRESSES: The DON invites all interested parties to submit scoping comments on the GOA Supplemental EIS/OEIS by mail to the address below and through the project website at http://www.GOAEIS.com.

FOR FURTHER INFORMATION CONTACT: Naval Facilities Engineering Command, Northwest, Attn: Ms. Kimberly Kler, 1101 Tautog Circle, Suite 203, Silverdale, Washington 98315, 360-315-5103.

SUPPLEMENTARY INFORMATION: This Supplemental EIS/OEIS is a supplement to the 2011 GOA EIS/OEIS and 2016 GOA Supplemental EIS/OEIS, and supports renewal of current regulatory permits and authorizations for training requirements to achieve and maintain Fleet readiness as required by Title 10 of the U.S. Code. The DON's Proposed Action is unchanged since the 2016 GOA Supplemental EIS/OEIS and 2017 Record of Decision, and includes conducting one large-scale carrier strike group exercise per year, as well as the inclusion of anti-submarine warfare activities with the use of active sonar. The Proposed Action does not alter the Navy's original purpose and need as discussed in the 2016 GOA Supplemental EIS/OEIS. The DON needs to continue conducting at-sea joint exercises in the GOA to support the training of combat-capable naval forces.

The Study Area for the Supplemental EIS/OEIS is the same as the 2011 GOA EIS/OEIS and 2016 GOA Supplemental EIS/OEIS. As part of this process, the DON will seek the issuance of regulatory permits and authorizations under the Marine Mammal Protection Act and Endangered Species Act to support continued at-sea training and testing requirements within the Study Area. The renewed permits would begin in 2022 and extend for a period of 7 years; thereby ensuring critical Department of Defense requirements into the future are met.

Pursuant to 40 CFR 1501.6, the DON will invite the National Marine Fisheries Service to be a cooperating agency in preparation of this Supplemental EIS/OEIS.

The analysis in the Supplemental EIS/OEIS will address the following resources: Marine mammals, fishes, threatened and endangered species, and Alaska Native Traditional Resources.

The DON will use the scoping process to identify public concerns and local issues to address in the Supplemental EIS/OEIS. Federal agencies, Alaska Native Tribes, state agencies, local agencies, the public, and interested persons are encouraged to provide comments to the DON to identify specific issues or topics of environmental concern the commenter believes the DON should consider. Written comments must be postmarked no later than March 11, 2020 for review and consideration in the development of the Draft Supplemental EIS/OEIS and mailed to: Naval Facilities Engineering Command, Northwest, Attention: GOA Supplemental EIS/OEIS Project Manager, 1101 Tautog Circle, Suite 203, Silverdale, Washington 98315-1101. Comments can also be submitted online via the project website at http://www.GOAEIS.com. Also at this website, those interested in receiving electronic project updates can subscribe to receive notifications via email for key milestones throughout the environmental planning process.

Dated: February 4, 2020.
D.J. Antenucci,
Commander, Judge Advocate General's Corps, U.S. Navy, Federal Register Liaison Officer.

[FR Doc. 2020-02537 Filed 2-7-20; 8:45 am]

BILLING CODE 3810-FF-P